FEDERAL DEPOSIT INSURANCE CORPORATION

FDIC Advisory Committee on Banking Policy; Notice of Meeting

AGENCY: Federal Deposit Insurance Corporation (FDIC).

ACTION: Notice of open meeting.

SUMMARY: In accordance with the Federal Advisory Committee Act (Pub. L. 92-463, as amended), notice is hereby given of the first meeting of the FDIC Advisory Committee on Banking Policy (“Advisory Committee”), which will be held in Washington, DC. The Advisory Committee will provide advice and recommendations on a broad range of issues relating to the FDIC's mission and activities.

Time and Place: Wednesday, November 13, 2002, from 9 a.m. to 12:30 p.m., and 1:30 to 3:30 p.m. The meeting will be held in the FDIC Board Room on the sixth floor of the FDIC Building located at 550 17th Street, NW., Washington, DC.

Agenda: The agenda items include discussion of the FDIC organizational structure, corporate priorities and challenges for the future. Agenda items are subject to change. Any changes to the agenda will be announced at the beginning of the meeting.

Type of Meeting: The meeting will be open to the public, limited only by the space available on a first-come, first-served basis. For security reasons, members of the public must present a photo identification to enter the building. The FDIC will provide attendees with auxiliary aids (e.g., sign language interpretation) required for this meeting. Those attendees needing such assistance should call (202) 416-2089 (Voice); (202) 416-2007 (TTY), at least two days before the meeting to make necessary arrangements. Written statements may be filed with the committee before or after the meeting.

FOR FURTHER INFORMATION: Requests for further information concerning the meeting may be directed to Mr. Robert E. Feldman, Committee Management Officer of the Corporation, at (202) 898-3742.

Dated: October 23, 2002.
Federal Deposit Insurance Corporation.
Robert E. Feldman,
Committee Management Officer.

[FR Doc. 02-27324 Filed 10-25-02; 8:45 am]

BILLING CODE 6714-01-P